DEPARTMENT OF DEFENSE

Office of the Secretary

Proposed Collection; Comment Request

AGENCY: Department of Defense, Office of the Under Secretary of Defense for Acquisition, Technology, and Logistics, Office of the Deputy Under Secretary of Defense for Installations, Office of Economic Adjustment.

ACTION: Notice.

In compliance with Section 3506(c)(2)(A) of the Paperwork Reduction Act of 1995, the Office of Economic Adjustment announces the proposed extension of a currently approved collection and seeks public comment on the provisions thereof. Comments are invited on: (a) Whether the proposed collection of information is necessary for the proper performance of the functions of the agency, including whether the information shall have practical utility; (b) the accuracy of the agency's estimate of the burden of the proposed information collection; (c) ways to enhance the quality, utility, and clarity of the information to be collected; and (d) ways to minimize the burden of the information collection on respondents, including through the use of automated collection techniques or other forms of information technology.

DATES: Consideration will be given to all comments received by July 2, 2001.

ADDRESSES: Interested parties should submit written comments and recommendations on the proposed information collection to the Office of Economic Adjustment, ATTN: Ms. Katie Smith, 400 Army Navy Drive, Suite 200, Arlington, VA 22202-2884; E-mail comments submitted via the Internet should be addressed to: Katie.Smith@osd.mil.

FOR FURTHER INFORMATION CONTACT: To request further information on this proposed information collection, or to obtain a copy of the proposal and associated collection instrument, please write to the above address or call Ms. Katie Smith at (703) 604-2400.

Title, Associated Form, and OMB Number: Base Realignment and Closure (BRAC) Military Base Reuse Status, DD Form 2740, OMB Control Number 0790-0003.

Needs and Uses: Through the Office of Economic Adjustment (OEA), DOD funds are provided to communities for economic adjustment planning in response to closures of military installations. A measure of program evaluation is the monitoring of civilian job creation and type of redevelopment at the former military installations. The respondents to the semi-annual survey will generally include a single point of contact at the local level who is responsible for overseeing redevelopment efforts. If this data is not collected, OEA would have no accurate, timely information regarding the civilian reuse of former military bases. A key function of the economic adjustment program is to encourage private sector use of lands and buildings to generate jobs as military activity diminishes and to serve as a clearinghouse for reuse data.

Affected Public: Business or Other For-Profit; Federal Government; State, Local, or Tribal Government.

Annual Burden Hours: 150.

Number of Annual Respondents: 75.

Annual Responses to Respondent: 2.

Average Burden per Response: 1 hour.

Frequency: Semi-annual.

SUPPLEMENTARY INFORMATION:

Summary of Information Collection

This information collection is authorized by the Defense Economic Adjustment, Diversification, Conversion, and Stabilization Act of 1990, Public Law 101-510, 10 U.S.C. 2391, and Executive Order 12788.

Dated: April 26, 2001.
Patricia L. Toppings,
Alternate OSD Federal Register Liaison Officer, Department of Defense.

[FR Doc. 01-10898 Filed 5-1-01; 8:45 am]

BILLING CODE 5001-10-M